DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing updates to the identifying information of one or more vessels currently included on OFAC's Specially Designated Nationals and Blocked Persons List (SDN List). All property and interests in property subject to U.S. jurisdiction of these vessels remain blocked, and U.S. persons are generally prohibited from engaging in transactions with them.

DATES: See SUPPLEMENTARY INFORMATION section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Action(s)

On June 8, 2023, OFAC published revised information for the following vessels on OFAC's SDN List, which remain blocked under the relevant sanctions authorities listed below.

Vessels

1. ARK III (f.k.a. “ABADEH”; f.k.a. “ARK”; f.k.a. “CRYSTAL”; f.k.a. “SUNDIAL”) Crude/Oil Products Tanker 99,030DWT 56,068GRT Iran flag; Additional Sanctions Information—Subject to Secondary Sanctions; Vessel Registration Identification IMO 9187655 (vessel) [IRAN] (Linked To: NATIONAL IRANIAN TANKER COMPANY).

Identified on November 5, 2018, pursuant to E.O. 13599 “Blocking Property of the Government of Iran and Iranian Financial Institutions,” of February 5, 2012, 77 FR 6659, 3 CFR, 2012 Comp., p. 215 (E.O. 13599), as property in which the NATIONAL IRANIAN TANKER COMPANY has an interest.

2. NAROON (f.k.a. “BELEMA LIGHT CRUDE”; f.k.a. “MAHARLIKA”; f.k.a. “NOOR”) Crude Oil Tanker 298,732DWT 156,809GRT Iran flag; Additional Sanctions Information—Subject to Secondary Sanctions; Vessel Registration Identification IMO 9079066 (vessel) [IRAN] (Linked To: NATIONAL IRANIAN TANKER COMPANY).

Identified on November 5, 2018, pursuant to E.O. 13599 as property in which the NATIONAL IRANIAN TANKER COMPANY has an interest.

3. CASPIA Chemical/Products Tanker Iran flag; Additional Sanctions Information—Subject to Secondary Sanctions; Vessel Registration Identification IMO 9125126 (vessel) [IRAN] [NPWMD] [IFSR] (Linked To: ISLAMIC REPUBLIC OF IRAN SHIPPING LINES).

Identified on November 5, 2018, pursuant to E.O. 13599 as property in which the ISLAMIC REPUBLIC OF IRAN SHIPPING LINES has an interest.

4. DANIEL (f.k.a. “DEMOS”) Crude Oil Tanker Iran flag; Additional Sanctions Information—Subject to Secondary Sanctions; Vessel Registration Identification IMO 9569683 (vessel) [IRAN] (Linked To: NATIONAL IRANIAN TANKER COMPANY).

Identified on November 5, 2018, pursuant to E.O. 13599 as property in which the NATIONAL IRANIAN TANKER COMPANY has an interest.

5. HAWK (f.k.a. “DOVE”; f.k.a. “HONAR”; f.k.a. “HORSE”; f.k.a. “JANUS”; f.k.a. “VICTORY”) Crude Oil Tanker 317,367DWT 163,660GRT Iran flag; Additional Sanctions Information—Subject to Secondary Sanctions; Vessel Registration Identification IMO 9362061 (vessel) [IRAN] (Linked To: NATIONAL IRANIAN TANKER COMPANY).

Identified on November 5, 2018, pursuant to E.O. 13599 as property in which the NATIONAL IRANIAN TANKER COMPANY has an interest.

6. NASHA (f.k.a. “NATIVE LAND”; f.k.a. “NESA”; f.k.a. “OCEANIC”; f.k.a. “TRUTH”) Crude Oil Tanker 298,732DWT 156,809GRT Iran flag; Additional Sanctions Information—Subject to Secondary Sanctions; Vessel Registration Identification IMO 9079107 (vessel) [IRAN] (Linked To: NATIONAL IRANIAN TANKER COMPANY).

Identified on November 5, 2018, pursuant to E.O. 13599 as property in which the NATIONAL IRANIAN TANKER COMPANY has an interest.

7. SEVIN (f.k.a. “BAIKAL”; f.k.a. “BLOSSOM”; f.k.a. “SANA”; f.k.a. “SIMA”; f.k.a. “SUCCESS”) Crude Oil Tanker 164,154DWT 85,462GRT Iran flag; Additional Sanctions Information—Subject to Secondary Sanctions; Vessel Registration Identification IMO 9357353 (vessel) [IRAN] (Linked To: NATIONAL IRANIAN TANKER COMPANY).

Identified on November 5, 2018, pursuant to E.O. 13599 as property in which the NATIONAL IRANIAN TANKER COMPANY has an interest.

8. SEA CLIFF (f.k.a. “SMOOTH”; a.k.a. “YARD NO. 1225 SHANGHAI WAIGAOQIAO”) Crude Oil Tanker 318,000DWT 165,000GRT Iran flag; Additional Sanctions Information—Subject to Secondary Sanctions; Vessel Registration Identification IMO 9569657 (vessel) [IRAN] (Linked To: NATIONAL IRANIAN TANKER COMPANY).

Identified on November 5, 2018, pursuant to E.O. 13599 as property in which the NATIONAL IRANIAN TANKER COMPANY has an interest.

9. SEA STAR III (f.k.a. “CARNATION”; f.k.a. “SAFE”; a.k.a. “SEASTAR III”; f.k.a. “SUNSHINE”; a.k.a. “YARD NO. 1220 SHANGHAI WAIGAOQIAO”) Crude Oil Tanker 318,000DWT 165,000GRT Iran flag; Additional Sanctions Information—Subject to Secondary Sanctions; Vessel Registration Identification IMO 9569205 (vessel) [IRAN] (Linked To: NATIONAL IRANIAN TANKER COMPANY).

Identified on November 5, 2018, pursuant to E.O. 13599 as property in which the NATIONAL IRANIAN TANKER COMPANY has an interest.

10. SERENA (f.k.a. “SALALEH”; f.k.a. “SONGBIRD”; a.k.a. “YARD NO. 1224 SHANGHAI WAIGAOQIAO”) Crude Oil Tanker 318,000DWT 165,000GRT Iran flag; Additional Sanctions Information—Subject to Secondary Sanctions; Vessel Registration Identification IMO 9569645 (vessel) [IRAN] (Linked To: NATIONAL IRANIAN TANKER COMPANY).

Identified on November 5, 2018, pursuant to E.O. 13599 as property in which the NATIONAL IRANIAN TANKER COMPANY has an interest.

11. SILVIA I (f.k.a. “MAGNOLIA”; f.k.a. “SABRINA”; f.k.a. “SARVESTAN”) Crude Oil Tanker 159,711DWT 81,479GRT Iran flag; Additional Sanctions Information—Subject to Secondary Sanctions; Vessel Registration Identification IMO 9172052 (vessel) [IRAN] (Linked To: NATIONAL IRANIAN TANKER COMPANY).

Identified on November 5, 2018, pursuant to E.O. 13599 as property in which the NATIONAL IRANIAN TANKER COMPANY has an interest.

12. SANAN (f.k.a. “CAMELLIA”; f.k.a. “SAVEH”; f.k.a. “SOL”; f.k.a. “SWALLOW”) Crude Oil Tanker 159,758DWT 81,479GRT Iran flag; Additional Sanctions Information—Subject to Secondary Sanctions; Vessel Registration Identification IMO 9171462 (vessel) [IRAN] (Linked To: NATIONAL IRANIAN TANKER COMPANY).

Identified on November 5, 2018, pursuant to E.O. 13599 as property in which the NATIONAL IRANIAN TANKER COMPANY has an interest.

13. SONIA I (f.k.a. “AZALEA”; f.k.a. “SINA”; f.k.a. “SUNEAST”) Crude Oil Tanker 164,154DWT 85,462GRT Iran flag; Additional Sanctions Information—Subject to Secondary Sanctions; Vessel Registration Identification IMO 9357365 (vessel) [IRAN] (Linked To: NATIONAL IRANIAN TANKER COMPANY).

Identified on November 5, 2018, pursuant to E.O. 13599 as property in which the NATIONAL IRANIAN TANKER COMPANY has an interest.

14. STARK I (f.k.a. “CLOVE”; f.k.a. “SEMNAN”; f.k.a. “SPARROW”) Crude Oil Tanker 159,681DWT 81,479GRT Iran flag; Additional Sanctions Information—Subject to Secondary Sanctions; Vessel Registration Identification IMO 9171450 (vessel) [IRAN] (Linked To: NATIONAL IRANIAN TANKER COMPANY).

Identified on November 5, 2018, pursuant to E.O. 13599 as property in which the NATIONAL IRANIAN TANKER COMPANY has an interest.

15. STARLA (f.k.a. “ATLANTIS”) Crude Oil Tanker Iran flag; Additional Sanctions Information—Subject to Secondary Sanctions; Vessel Registration Identification IMO 9569621 (vessel) [IRAN] (Linked To: NATIONAL IRANIAN TANKER COMPANY).

Identified on November 5, 2018, pursuant to E.O. 13599 as property in which the NATIONAL IRANIAN TANKER COMPANY has an interest.

Dated: June 8, 2023
Andrea Gacki,
Director, Office of Foreign Assets Control, U.S. Department of the Treasury.

[FR Doc. 2023-12901 Filed 6-15-23; 8:45 am]

BILLING CODE 4810-AL-P